NATIONAL COUNCIL ON DISABILITY

Sunshine Act Meetings

Type: Quarterly Meeting/News Conference/Panel Discussion/Stakeholder Dialogue.

DATE AND TIME: October 30, 2006, 9 a.m.-5 p.m. EST.

LOCATION: JW Marriott Hotel, 1331 Pennsylvania Avenue, NW., Washington, DC.

STATUS: This meeting will be open to the public and free of charge.

AGENDA: Reports from the Chairperson and the Executive Director, Team Reports, Unfinished Business, New Business, Announcements, Adjournment.

TYPE: News Conference, Report Release, Stakeholder Dialogue.

DATE AND TIME: October 31, 2006, 9 a.m.-1 p.m.

LOCATION: AARP, Brickfield Conference Center, enter at 600 E Street, NW., Washington, DC.

STATUS: This meeting will be open to the public and free of charge.

AGENDA: News conference to release NCD's report, Creating Livable Communities, Panel Discussion, and Stakeholder Dialogue.

SUNSHINE ACT MEETING CONTACT: Mark S. Quigley, Director of Communications, NCD, 1331 F Street, NW., Suite 850, Washington, DC 20004; 202-272-2004 (voice), 202-272-2074 (TTY), 202-272-2022 (fax).

AGENCY MISSION: NCD is an independent Federal agency making recommendations to the President and Congress to enhance the quality of life for all Americans with disabilities and their families. NCD is composed of 15 members appointed by the President and confirmed by the U.S. Senate.

ACCOMMODATIONS: Those needing reasonable accommodations should notify NCD at least two weeks before these meetings.

LANGUAGE TRANSLATION: In accordance with E.O. 13166, Improving Access to Services for Persons with Limited English Proficiency, those people with disabilities who are limited English proficient and seek translation services for these meetings should notify NCD at least two weeks before these events.

Dated: September 12, 2006.
Mark S. Quigley,
Acting Executive Director.

[FR Doc. 06-7735 Filed 9-13-06; 2:52 pm]

BILLING CODE 6820-MA-P